DEPARTMENT OF COMMERCE

Foreign-Trade Zones Board

[B-42-2022]

Foreign-Trade Zone (FTZ) 153—San Diego, California; Authorization of Production Activity; Ajinomoto Bio-Pharma Services (Pharmaceutical Products), San Diego, California

On September 7, 2022, the City of San Diego, grantee of FTZ 153, submitted a notification of proposed production activity to the FTZ Board on behalf of Ajinomoto Bio-Pharma Services, within FTZ 153, in San Diego, California.

The notification was processed in accordance with the regulations of the FTZ Board (15 CFR part 400), including notice in the Federal Register inviting public comment (87 FR 56626, September 15, 2022). On January 5, 2023, the applicant was notified of the FTZ Board's decision that no further review of the activity is warranted at this time. The production activity described in the notification was authorized, subject to the FTZ Act and the FTZ Board's regulations, including Section 400.14.

Dated: January 5, 2023.
Elizabeth Whiteman,
Acting Executive Secretary.

[FR Doc. 2023-00307 Filed 1-9-23; 8:45 am]

BILLING CODE 3510-DS-P